DEPARTMENT OF HEALTH AND HUMAN SERVICES

Administration for Children and Families

Proposed Information Collection Activity; Comment Request

Proposed Projects

Title: Evaluation of the Community Healthy Marriage Initiative.

OMB No. New collection.

Description: The Administration for Children and Families, U.S. Department of Health and Human Services, is conducting a demonstration and evaluation called the Community Healthy Marriage Initiative (CHMI). Demonstration programs are currently funded through child support enforcement waivers authorized under section 1115 of the Social Security Act to support healthy marriage, improve child well-being and increase the financial security of children. The objective of the evaluation is to: (1) Assess the implementation of community interventions designed to provide marriage education by examining the way the projects operate and by examining child support outcomes among low-income families in the community; and (2) evaluate the community impacts of these interventions on marital stability and satisfaction, child well-being and child support outcomes among low-income families. Primary data for the implementation evaluation will come from observations, interviews, focus groups and records. One-on-one and small group interviews with project staff and marriage education service providers in the community will provide a detailed understanding of the administration and operation of the demonstrations. Focus group discussions will provide insights into participants' perspectives on marriage education and their experiences with the CHMI interventions. This request for comments is for semi-structured interviews and focus groups for the implementation evaluation.

The impact evaluation will be integrated with the implementation study and will assess the effects of healthy marriage initiatives by comparing family- and child well-being outcomes in the CHMI communities with similar outcomes in comparison communities that are well-matched to the project sites. Data from the implementation studies will provide the basis for the instrumental variable models of CHMI impacts to help determine direct or indirect exposure to marriage-related services. At a later date, comments will be sought on information collection for the impact evaluation.

Respondents: Lead Project Staff, Service Provider Organization Staff, Key Community, Civic Stakeholders, and Program Clients.

Annual burden Estimates
Instrument | Number of respondents | Average number of responses per respondents | Average burden hours per response | Total burden hours
Administrative interviews | 160 40 respondents x 4 sites | 2 visits, on average | 1 | 320
Focus groups | 200 20 focus group participants per site x 10 | 1 | 1.5 | 300

Estimated Total Annual Burden Hours: 620

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20047, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 30, 2004.
Robert Sargis,
Reports Clearance Officer.

[FR Doc. 04-26763 Filed 12-6-04; 8:45 am]

BILLING CODE 4184-01-M